DEPARTMENT OF THE INTERIOR

Bureau of Land Management

[AK010-1410-FP]

Notice of Realty Action; Airport Lease, Sitka, Alaska

AGENCY: Bureau of Land Management, Interior.

ACTION: Notice of Realty Action.

SUMMARY: The State of Alaska, Department of Transportation and Public Facilities (proponent) submitted an application for a 20 year lease for 222 acres to continue and maintain safe operations at the Sitka Rocky Gutierrez Airport in Sitka, AK pursuant to 49 U.S.C. 211; 43 U.S.C. 1701 et seq. and regulations at 43 CFR part 2911.

DATES: Interested parties may submit comments until November 7, 2008.

ADDRESSES: Mail comments to Jim Fincher, Field Manager, Anchorage Field Office, 4700 BLM Road, Anchorage, Alaska 99507-2599.

FOR FURTHER INFORMATION CONTACT: Harrison Griffin, (907) 267-1210 or (800) 478-1263.

SUPPLEMENTARY INFORMATION: This is a notice of an application for the issuance of an Airport Lease. No additional proposals will be accepted. The proponent will reimburse the United States for reasonable administrative fees and other costs incurred by the United States in processing the proposed lease. The proposed lease would authorize the proponent's current infrastructure and future improvements to remain on the land.

The proposed lease for 222 acres would be offered to the applicant for a term of 20 years and would require rent (if applicable) to be paid to the United States at market value. While the 20-year lease is in effect, allowing operations to continue as they have, the Bureau of Land Management (BLM), Federal Aviation Administration, Alaska Department of Transportation and Public Facilities will coordinate the permanent conveyance of the aforementioned 222 acres. In the absence of a timely objection, this proposal may become the final decision of the Department of the Interior. The 222 acres encompasses a large portion of Japonski Island and, to a lesser extent, Whiting Harbor, located within the Copper River Meridian, T. 56 S., R. 63 E., Sections 2 and 3.

Dated: September 15, 2008.
James M. Fincher,
Anchorage Field Office Manager,.

[FR Doc. E8-22238 Filed 9-22-08; 8:45 am]

BILLING CODE 4310-JA-P